NUCLEAR REGULATORY COMMISSION

[Docket No. 50-331]

Nuclear Management Company, LLC; Correction

The November 14, 2001 (66 FR 57115), Federal Register contained a “Notice of Issuance of Amendment to Facility Operating License.” On page 57116, the date of September 24, 2001, should have been included in the list of supplemental letters to the application dated November 16, 2000.

Dated at Rockville, Maryland, this 29th day of November, 2001.
Brenda L. Mozafari,
Project Manager, Section 1, Project Directorate III-1, Division of Licensing Project Management, Office of Nuclear Reactor Regulation.

[FR Doc. 01-30111 Filed 12-4-01; 8:45 am]

BILLING CODE 7590-01-P